CENSUS BUREAU

Agency Information Collection Activities; Submission to the Office of Management and Budget (OMB) for Review and Approval; Comment Request; Local Update of Census Addresses (LUCA) Operation

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of the Local Update of Census Addresses (LUCA) operation, prior to the submission of the information collection request (ICR) to OMB for approval.

DATES: To ensure consideration, comments regarding this proposed information collection must be received on or before April 20, 2026.

ADDRESSES: Interested persons are invited to submit written comments by email to dcmd.pra@census.gov. Please reference “Local Update of Census Addresses (LUCA) operation” in the subject line of your comments. You may also submit comments, identified by Docket Number USBC-2026-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Snow, Supervisory Program Analyst, Decennial Census Management Division, by phone at 301-763-9912 or by email to dcmd.pra@census.gov.

SUPPLEMENTARY INFORMATION:

I. Abstract

The Local Update of Census Addresses (LUCA) operation is an opportunity provided by the U.S. Census Bureau to enable tribal, state, and general-purpose local governments to review and comment on the Census Address List for their respective jurisdictions prior to the decennial census. The Census Address List Improvement Act of 1994 (Pub. L. 103-430), codified at 13 U.S.C. 16, expanded the Census Bureau's authority to share selected address information with tribal, state, and general-purpose local governments for the purpose of improving the residential address list. The LUCA operation is conducted pursuant to this authority and focuses on the review and submission of residential address information, including individual housing units, group quarters, and transitory locations, in support of a complete and accurate census count. There are multiple steps within the LUCA operation that are outlined later in this notice. LUCA is available to legally defined federally recognized Native American and Alaska Native areas (including the Alaska Native Regional Corporations), states, governmentally active counties, and equivalent entities, incorporated places, and legally defined minor civil divisions (MCDs) for which the Census Bureau reports data. Participation in the LUCA program is voluntary.

2030 LUCA will occur between May 2027 and September 2029. LUCA is designed to ensure all governments can review the Census Address list prior to the 2030 Census and comprises four phases:

LUCA Prep.

LUCA Review.

Feedback and Appeals.

LUCA Closeout.

LUCA is a reinstated program from the previous decade. The Census Bureau has introduced multiple new tools to assist participants with conducting their work, such as an address matching service, web-based tools that eliminate the need for the download of software, and a secure portal to facilitate communication and registration. There will be no paper materials for 2030 LUCA.

Prior to making the decision to register for the 2030 LUCA program, eligible governments should review the residential address data provided in the LUCA Address Count Listing Files (ACLF) and compare them to any respective tribal, state, or local residential address data to determine how well Census address counts match up with the respective government's address counts. The ACLF is a summary dataset that provides block-level counts of living quarters, including housing units, group quarters, and transitory locations, that can be used to evaluate address coverage at the census block level. The review and comparison of the ALCF with the government's own residential address data will aid governments in deciding whether or not they should complete an address-level review and also helps identify areas where the government may want to focus LUCA efforts. Tribal, state and general-purpose local governments choosing to register for LUCA must designate a primary point of contact, or LUCA liaison. LUCA liaisons may appoint additional reviewers to assist in the operation. All LUCA participants electing to review the Census Address List must provide certification of their agreement to maintain the confidentiality of:

(1) the Census Address List as defined by the LUCA Security Checklist and Confidentiality Agreement Form and Guidelines,

(2) responses regarding their physical and information technology security capability,

(3) product preference information, and

(4) certification of their deletion of materials containing confidential data.

Governments who register for 2030 LUCA and agree to the confidentiality agreement may review the Census Address List for their jurisdiction and may choose to provide the Census Bureau address additions, deletions, conversions, moving of residential addresses, as well as spatial updates (to include road additions or deletions).

LUCA Prep

LUCA Prep will occur between May 2027 and August 2027 and provides all eligible governments with the option to learn about LUCA, gather support materials in preparation for LUCA Review, and register for LUCA. Additionally, LUCA Prep offers governments opportunities for training and hands-on practice with the LUCA tools and address data for their jurisdiction from the Census Address List. Submissions are not accepted during LUCA Prep, as this phase is intended for preparation purposes only, and participants will receive a more current version of the Census Address List during the Review phase. If research conducted during LUCA Prep indicates that their address list is complete, a government may choose to not participate in the LUCA Review phase.

Use of digital communication eliminates the wait time that was previously needed in LUCA to prepare materials, so advanced packages that were a feature of the 2020 LUCA are no longer needed. This LUCA Prep phase includes the initial invitation.

LUCA Review

LUCA Review will occur from October 2028 through March 2029 and provides tribal, state, and general-purpose local governments the opportunity to learn about the LUCA program and determine their level of participation.

During this period, governments may review the LUCA Address Count List File (ACLF) without registering for LUCA. This initial review allows participants to compare the Census Bureau's residential address counts with their own records to assess whether a more detailed review is warranted.

If, based on the LUCA ACLF review, a government elects to conduct a full LUCA Review of the Census Address List, it must register a LUCA liaison and any reviewers and sign a confidentiality agreement. Registration and certification are required before access to the Census Address List is granted, as the list contains confidential Title 13 information.

Governments that complete registration and confidentiality requirements may then review the Census Address List and submit suggestions for the addition, deletion, conversion, or moving of residential addresses, as well as the addition or deletion of road features.

The review period was four months in 2020 LUCA and is being increased to six months for 2030 LUCA in response to requests to allow more time for the government's review.

LUCA Feedback and Appeals

LUCA Feedback and Appeals will occur between August 2028 and September 2029 and begins with the Census Bureau providing address-level feedback to participating governments that provide suggestions of additions, deletions, conversions, or moving of residential addresses in LUCA Review. The Census Bureau will not provide feedback on feature updates submitted within LUCA. The address list feedback includes detailed information about the results of the address updates submitted during LUCA Review and allows participating governments the option to appeal selected feedback results. All appeals must be submitted to the Office of Management and Budget (OMB) within 60 days of receiving feedback.

LUCA Closeout

LUCA Closeout marks the end of participating governments' access to the Census Address List—including any geographic files or data created with the Census Address List. Participating governments must delete all data protected by Title 13, U.S.C., in accordance with the LUCA Security Checklist and Confidentiality Agreement Form and Guidelines. Materials for the closeout phase will be provided as early as May 2029, for those that choose not to participate in the appeals phase. For participating governments that elect to receive Title 13 LUCA materials, but do not submit updates during the LUCA review, LUCA Closeout begins upon completion of their LUCA participation. For participating governments that elect to receive Title 13 LUCA materials and submit updates, LUCA Closeout will occur following completion of the LUCA Feedback and Appeals phase, by September 2029. Input on the experience of LUCA participants will be gathered by a LUCA Customer Experience Survey.

II. Method of Collection

The information on LUCA contacts, certification of agreement to maintain the confidentiality of the Census Address List through the LUCA Security Checklist and Confidentiality Agreement Form and Guidelines, product preference, and certification of the destruction or return of materials containing data protected by Title 13 are collected in secure digital formats through the Census Bureau's electronic submission platforms. The creation of paper materials was removed due to resource constraints at the Census Bureau and to create a more efficient digital submission process for participants. Participants that have limited digital capability are encouraged to collaborate with larger governments that may have additional resources to prepare digital submissions.

Address Updates

A participant that chooses to submit suggestions to the Census Address List including additions, deletions, conversions, or moving of residential addresses must register using the Geography Division Partner Portal (GDPP).

The GDPP is a secure, centralized platform that streamlines Geographic Partnership Program participation and supports operational management. The portal enables the registration of LUCA operations, ensuring proper documentation and tracking of census-related activities. In addition, it provides partners with access to resources, data tools, and communication channels to facilitate coordination and information sharing.

Geographic Update Partnership Software (GUPS) Web—This free web-based Geographic Information System allows LUCA participants to conduct a full LUCA review. Participants will have access to the LUCA ACLF, address-level matching functionality, an environment to identify additions, deletions, conversions, or moving of residential addresses in the required format, and conduct quality checks. As a self-contained system, GUPS Web will allow for an easier closeout at the end of the LUCA operation.

LUCA Wizard—This free, online application allows participants to download census data to include the LUCA ACLF, Census Address List, and partnership shapefiles. Additionally, LUCA Wizard can perform an address-level match to the Census Address List and conduct quality checks in advance of submission. The LUCA Wizard uses the Census Bureau's Secure Web Incoming Module (SWIM) to transfer data to and from participants. It provides a controlled web-based mechanism for submitting sensitive or restricted data directly to the Census Bureau, ensuring confidentiality, integrity, and compliance with federal security requirements. SWIM supports encrypted data transfers, user authentication, and access controls to protect information in transit and limit access to authorized users only. LUCA participants will need to prepare submissions using their own software and take precautions to maintain confidentiality of census address materials.

Feature Updates

The information collected on living quarter structure point coordinates, roads, and road attribute updates can be submitted in the format preferred by the participating government. The formats are:

Digital data shapefiles output by the latest version of GUPS Web, or

Digital updates to the Census Bureau supplied shapefiles.

III. Data

OMB Control Number: 0607-0994.

Form Number(s): LUCA Security Checklist and Confidentiality Agreement Form (30-P-27-F), LUCA Registration Form (30-P-13-F), LUCA Prep Participation Response Form (30-P-21-F), LUCA Review Participation Response Form (30-R-11-F), LUCA Product Preference Form (30-R-15-F), LUCA Customer Experience Survey (30-R-31-F), Geography Division Partner Portal (no form number), Geographic Update Partnership Software Web (no form number), Secure Web Incoming Module (no form number), LUCA Wizard (no form number), and LUCA Destruction of Title 13 Materials Form (30-R-25-F).

Type of Review: Regular submission, request for reinstatement, with change, of a previously approved collection.

Affected Public: Tribal, state, and general-purpose local governments.

Estimated Number of Respondents: 40,000.

Estimated Time per Response: 17.9 hours on average; will vary by population size of government.

Number of government respondents | Government size by number of addresses | Average burden hours | Total burden hours
34,000 | <6,000 | 13.5 | 459,000
5,700 | 6,001 to 500,000 | 33.8 | 192,660
250 | 500,001 to 1,000,000 | 135.3 | 33,825
50 | >1,000,000 | 568.6 | 28,430
40,000 | All Sizes | 17.9 | 713,915

The 17.9-hour average is a reduction from the 21 average hours in the previous decade. This is a result of increased efficiency for participants using new tools, such as the LUCA Wizard and the address-matching tool, to focus their work.

Estimated Total Annual Burden Hours: 713,915.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C. 16.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-03073 Filed 2-13-26; 8:45 am]

BILLING CODE 3510-07-P